DEPARTMENT OF HEALTH AND HUMAN SERVICES

National Toxicology Program (NTP); Center for the Evaluation of Risks to Human Reproduction (CERHR); Extension of the Public Comment Period on the Di-(2-Ethylhexyl)Phthalate (DEHP) Update Expert Panel Report

AGENCY: National Institute for Environmental Health Sciences (NIEHS); National Institutes of Health (NIH).

ACTION: Extension of public comment period.

SUMMARY: The CERHR announces a 30-day extension of the public comment period on the DEHP update expert panel report. The CERHR previously announced a public comment period on the DEHP update expert panel report in a prior Federal Register Notice [November 16, 2005 (Vol. 70, No. 220, pg. 69567)]. The DEHP update expert panel report was released by CERHR on November 21, 2005 and public comments will now be accepted by CERHR through Friday, February 3, 2006 instead of the original deadline of January 4, 2006. The DEHP update expert panel report is available from the CERHR Web site (http://cerhr.niehs.nih.gov) or in print from the CERHR (see ADDRESSES below).

DATES: The final DEHP update expert panel report is available for public comment. Written public comments on this report should be received by February 3, 2006.

ADDRESSES: Comments on the expert panel report and any other correspondence should be sent to Dr. Michael D. Shelby, CERHR Director, NIEHS, P.O. Box 12233, MD EC-32, Research Triangle Park, NC 27709 (mail), (919) 316-4511 (fax), or shelby@niehs.nih.gov (e-mail). Courier address: CERHR, 79 T.W. Alexander Drive, Building 4401, Room 103, Research Triangle Park, NC 27709.

SUPPLEMENTARY INFORMATION:

Background Information on the CERHR

The NTP established the CERHR in June 1998 [Federal Register, December 14, 1998 (Vol. 63, No. 239, pp. 68782)]. The CERHR is a publicly accessible resource for information about adverse reproductive and/or developmental health effects associated with exposure to environmental and/or occupational exposures. Expert panels conduct scientific evaluations of agents selected by the CERHR in public forums.

The CERHR invites the nomination of agents for review or scientists for its expert registry. Information about CERHR and the nomination process can be obtained from its Web site (http://cerhr.niehs.nih.gov) or by contacting Dr. Shelby (see ADDRESSES above). The CERHR selects chemicals for evaluation based upon several factors including production volume, potential for human exposure from use and occurrence in the environment, extent of public concern, and extent of data from reproductive and developmental toxicity studies.

The CERHR follows a formal, multi-step process for review and evaluation of selected chemicals. The formal evaluation process was published in the Federal Register notice July 16, 2001 (Vol. 66, No. 136, pp. 37047-37048) and is available on the CERHR Web site under “About CERHR” or in printed copy from the CERHR.

Dated: December 5, 2005.
Samuel H. Wilson,
Deputy Director, National Institute of Environmental Health Sciences.

[FR Doc. E5-7290 Filed 12-13-05; 8:45 am]

BILLING CODE 4140-01-P